DEPARTMENT OF ENERGY

Federal Energy Regulatory Commission

[Docket No. CP23-513-000]

Port Arthur Pipeline, LLC; Notice of Schedule for the Preparation of an Environmental Assessment for the Louisiana Connector Pipeline Amendment

On July 14, 2023, Port Arthur Pipeline, LLC (Port Arthur) filed an application in Docket No. CP23-513-000 requesting a Certificate of Public Convenience and Necessity pursuant to Section 7(c) of the Natural Gas Act to construct and operate certain natural gas pipeline facilities. The proposed project is known as the Louisiana Connector Pipeline Amendment (Amendment), and would involve 38 modifications to the pipeline alignment, construction footprint, and installation methods for the Louisiana Connector Project, which was approved by the Commission on April 18, 2019, in Docket No. CP18-7-000.

On July 28, 2023, the Federal Energy Regulatory Commission (Commission or FERC) issued its Notice of Application for the Amendment. Among other things, that notice alerted agencies issuing Federal authorizations of the requirement to complete all necessary reviews and to reach a final decision on a request for a Federal authorization within 90 days of the date of issuance of the Commission staff's environmental document for the Amendment.

This notice identifies Commission staff's intention to prepare an environmental assessment (EA) for the Amendment and the planned schedule for the completion of the environmental review.¹

¹ 40 CFR 1501.10 (2020).

Schedule for Environmental Review

Issuance of EA—February 2, 2024

90-day Federal Authorization Decision Deadline ²—May 2, 2024

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the project's progress.

Project Description

The proposed amended facilities are specific to 38 locations in Jefferson County, Texas and Cameron, Calcasieu, Beauregard, and Allen Parishes, Louisiana (between milepost 0 in Jefferson County, Texas and milepost 82.5 south of Reeves in Allen Parish, Louisiana), as detailed below:

• Modifications to pipeline routes, construction methods, horizontal directional drill (HDD) entry points, and additional temporary workspaces to accommodate landowner requests, to reduce environmental impacts, to avoid newly identified non-Port Arthur pipelines, to avoid new structures, or to allow for safer construction access;

• Shifting of pipeline easements to allow the permanent easements to abut other existing permanent easements;

• Addition and modification of access roads for geotechnical boring access and/or to allow better and safer access to the HDD drill pad for construction and HDD inspection;

• Modification of equipment and material storage areas and staging areas to utilize areas that were recently and permanently impacted by other parties;

• Modification to water approaches to use existing boat ramp/dock improvements;

• Relocation of mainline valves to reduce the amount of permanent right-of-way needed, to facilitate operations and maintenance, to provide for safer access via road, and to allow access to power and communications to comply with new and anticipated U.S. Department of Transportation/Pipeline and Hazardous Materials Safety Administration requirements;

• Modification of three waterbody crossings methodologies from open cut to an HDD as requested by the U.S. Army Corps of Engineers;

• Combine, in two locations, multiple HDDs into a single HDD which would result in avoiding an open-cut crossing and eliminating an HDD; and

• Modification of HDD alignments to avoid conflicts with potential future deeper canal depths.

Background

On August 9, 2023, the Commission issued a Notice of Scoping Period Requesting Comments on Environmental Issues for the Proposed Louisiana Connector Pipeline Amendment (Notice of Scoping). The Notice of Scoping was sent to affected landowners; Federal, State, and local government agencies; elected officials; environmental and public interest groups; Native American tribes; other interested parties; and local libraries and newspapers. In response to the Notice of Scoping, the Commission received comments from the U.S. Environmental Protection Agency (EPA). The primary issues raised by the EPA are air quality, environmental justice, and National Pollutant Discharge Elimination System permits. All substantive comments will be addressed in the EA. The U.S. Army Corps of Engineers is a cooperating agency in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Amendment is available from the Commission's Office of External Affairs at (866) 208-FERC or on the FERC website (www.ferc.gov). Using the “eLibrary” link, select “General Search” from the eLibrary menu, enter the selected date range and “Docket Number” excluding the last three digits (i.e., CP23-513), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 6, 2023.
Kimberly D. Bose,
Secretary.

[FR Doc. 2023-22693 Filed 10-12-23; 8:45 am]

BILLING CODE 6717-01-P